DEPARTMENT OF AGRICULTURE

Forest Service

Information Collection; Volunteer Application for Natural Resource Agencies

AGENCY: Forest Service, USDA.

ACTION: Notice; request for comment.

SUMMARY: In accordance with the Paperwork Reduction Act of 1995, the Forest Service is seeking comments from all interested individuals and organizations on the extension without revision of the information collection, Volunteer Application for Natural Resource Agencies, OF-301. The collected information will help the Forest Service and other Natural Resource Agencies match the skills of individuals, who are applying for volunteer positions, with work that can be accomplished by volunteers. Information will be collected from potential volunteers of all ages. Those under the age of 18 years must have written consent from their parents or guardian.

DATES: Comments must be received in writing on or before June 21, 2004 to be assured of consideration. Comments received after that date will be considered to the extent practicable.

ADDRESSES: All comments concerning this notice should be addressed to USDA Forest Service, Director, Senior, Youth & Volunteer Programs, (Mail Stop 1136), 1400 Independence Avenue, SW., Washington, DC 20250-0003. Comment may also be submitted via facsimile to (703) 605-5115. The public may inspect comments received at USDA-Forest Service, 1621 N. Kent Street, Roslyn Plaza East, Room 1010, Arlington, VA during normal business hours. Visitors are encouraged to call ahead to (703) 605-4851 to facilitate entry to the building.

FOR FURTHER INFORMATION CONTACT: Donald T. Hansen, Program Manager, Volunteer Programs, Senior Youth and Volunteer Programs, at (703) 605-4851.

SUPPLEMENTARY INFORMATION: Title: Volunteer Application for Natural Resource Agencies.

OMB Number: 0596-0080.

Expiration Date of Approval: 04/30/2004.

Type of Request: Extension with no revisions.

Abstract: This information collection helps agency volunteer coordinators and other personnel to match the volunteer worker with agency volunteer opportunities upon evaluation of the applicant's skills and physical condition as described in the completed form OF-301. The Volunteer Act of 1972, as amended, authorizes the Natural Resource Agencies to recruit and train volunteer workers to accomplish certain work, such as building and maintaining trails, constructing campground facilities, improving wildlife habitat, assisting with interpretive services, assisting visitors, or other activities to help the agency meet its mission. Volunteers may be any age, as long as they are capable of doing the work for which they volunteer.

Persons interested in volunteering will have to write or call the agencies to request a copy of the Volunteer Application for Natural Resource Agencies or access to the appropriate agency internet to complete an on-line form. OF-301 asks potential volunteers for name, address, telephone number, age, the work categories in which they are interested, and about past work experiences. It also asks potential volunteers to specify the kind of work they prefer, to provide the dates they are available to do volunteer work and the location, to describe any physical limitations, and whether they require lodging at the location of volunteer work. Under this consolidated information collection agency effort, all other volunteer application forms will become obsolete once the OF-301 has been revised. If the information is not collected, the Federal Natural Resource Agencies would not be able to recruit any volunteers to accomplish their mission.

OF-301, Volunteer Application for Natural Resource Agencies

Estimate of Annual Burden: 15 minutes.

Type of Respondents: Individuals.

Estimated Annual Number of Respondents: 58,100.

Estimated Annual Number of Responses per Respondent: 1.

Estimated Total Annual Burden on Respondents: 14,525.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. In submitting this proposal to the Office of Management and Budget for approval, the Forest Service will summarize and respond to comments received.

Dated: April 16, 2004.
Irving W. Thomas,
Acting Deputy Chief for Business Operations.

[FR Doc. 04-9124 Filed 4-21-04; 8:45 am]

BILLING CODE 3410-11-P